DEPARTMENT OF COMMERCE

International Trade Administration

[A-583-803]

Light-Walled Welded Rectangular Carbon Steel Tubing From Taiwan: Continuation of Antidumping Duty Order

AGENCY: Import Administration, International Trade Administration, Department of Commerce.

SUMMARY: As a result of the determinations by the Department of Commerce (the Department) and the International Trade Commission (ITC) that revocation of the antidumping duty order on light-walled welded rectangular carbon steel tubing from Taiwan would likely lead to a continuation or recurrence of dumping and material injury to an industry in the United States, the Department is publishing a notice of continuation of the antidumping duty order.

DATES: Effective Date: February 2, 2012.

FOR FURTHER INFORMATION CONTACT: Jerrold Freeman or Minoo Hatten, AD/CVD Operations, Office 1, Import Administration, International Trade Administration, U.S. Department of Commerce, 14th Street and Constitution Avenue NW., Washington, DC 20230; telephone: (202) 482-0180 or (202) 482-1690, respectively.

SUPPLEMENTARY INFORMATION:

Background

On July 1, 2011, the Department initiated, and the ITC instituted, the sunset review of the antidumping duty order ¹ on light-walled welded rectangular carbon steel tubing from Taiwan pursuant to section 751(c) of the Tariff Act of 1930, as amended (the Act). See Initiation of Five-Year (“Sunset”) Review, 76 FR 38613 (July 1, 2011) and Certain Pipe and Tube From Brazil, India, Korea, Mexico, Taiwan, Thailand, and Turkey, 76 FR 38691 (July 1, 2011).

¹ Antidumping Duty Order; Light-Walled Welded Rectangular Carbon Steel Tubing From Taiwan, 54 FR 12467 (March 27, 1989).

As a result of this sunset review, the Department determined that revocation of the antidumping duty order on light-walled welded rectangular carbon steel tubing from Taiwan would be likely to lead to continuation or recurrence of dumping and notified the ITC of the magnitude of the margins likely to prevail should the order be revoked. See Light-Walled Welded Rectangular Carbon Steel Tubing From Taiwan: Final Results of the Expedited Sunset Review of the Antidumping Duty Order, 76 FR 64312 (October 18, 2011).

On January 24, 2012, pursuant to section 752(a) of the Act, the ITC published its determination that revocation of the antidumping duty order on light-walled welded rectangular carbon steel tubing from Taiwan would likely lead to continuation or recurrence of material injury to an industry in the United States within a reasonably foreseeable time. See Light-Walled Rectangular Pipe and Tube From Taiwan, 77 FR 3497 (January 24, 2012), and ITC Publication 4301 (January 2012) entitled Light-Walled Rectangular Pipe and Tube From Taiwan (Investigation No. 731-TA-410 (Third Review)).

Scope of the Order

The product covered by the order is light-walled welded carbon steel pipe and tube of rectangular (including square) cross-section having a wall thickness of less than 0.156 inch. This merchandise is classified under item number 7306.61.5000 of the Harmonized Tariff Schedule (HTS). It was formerly classified under item number 7306.60.5000. The HTS item numbers are provided for convenience and customs purposes only. The written product description remains dispositive.

Continuation of the Order

As a result of the determinations by the Department and the ITC that revocation of this antidumping duty order would likely lead to continuation or recurrence of dumping and material injury to an industry in the United States, pursuant to section 751(d)(2) of the Act, the Department hereby orders the continuation of the antidumping duty order on light-walled welded rectangular carbon steel tubing from Taiwan.

U.S. Customs and Border Protection will continue to collect antidumping duty cash deposits at the rates in effect at the time of entry for all imports of subject merchandise. The effective date of continuation of this order will be the date of publication in the Federal Register of this notice of continuation. Pursuant to section 751(c)(2) of the Act, the Department intends to initiate the next five-year review of this order not later than 30 days prior to the fifth anniversary of the effective date of continuation.

This five-year sunset review and this notice are in accordance with section 751(c) of the Act and published pursuant to section 777(i)(1) of the Act.

Dated: January 25, 2012.
Paul Piquado,
Assistant Secretary for Import Administration.

[FR Doc. 2012-2252 Filed 2-1-12; 8:45 am]

BILLING CODE 3510-DS-P